DEPARTMENT OF COMMERCE

Foreign-Trade Zones Board

[Docket 46-2004]

Foreign-Trade Zone 84—Houston, Texas; Expansion of Manufacturing Authority—Subzone 84O; ExxonMobil Corporation; Baytown, TX

An application has been submitted to the Foreign-Trade Zones Board (the Board) by the Port of Houston Authority, grantee of FTZ 84, requesting authority on behalf of ExxonMobil Corporation (ExxonMobil), to expand the scope of manufacturing activity conducted under zone procedures within Subzone 84O at the ExxonMobil oil refinery complex in Baytown, Texas. The application was submitted pursuant to the provisions of the Foreign-Trade Zones Act, as amended (19 U.S.C. 81a-81u), and the regulations of the Board (15 CFR part 400). It was formally filed on October 22, 2004.

Subzone 84O (465,000 BPD capacity 3,000-4,000 employees) was approved by the Board in 1996 for the manufacture of fuel products and certain petrochemical feedstocks and refinery by-products (Board Order 837, 61 FR 38711, 7/25/96, as amended by Board Order 1116, 65 FR 52696, 8/30/00).

The subzone (3,500 acres) is located on the Houston Ship Channel at 2800 Decker Drive, Baytown, Harris County, Texas, some 25 miles east of Houston. The expansion request involves the modification of a crude unit to increase the overall crude distillation capacity of the refinery to 575,000 BPD and allow for the processing of a greater variety of crudes. No additional feedstocks or products have been requested.

Zone procedures would exempt the increased production from Customs duty payments on the foreign products used in its exports. On domestic sales, the company would be able to choose the Customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230.

The closing period for their receipt is January 3, 2005. Rebuttal comments in response to material submitted during the foregoing period may be submitted during the subsequent 15-day period (to January 18, 2005).

A copy of the application and accompanying exhibits will be available for public inspection at the Office of the Foreign-Trade Zones Board's Executive Secretary at the first address listed above, and at the U.S. Department of Commerce, Export Assistance Center, 15600 John F. Kennedy Blvd., Suite 530, Houston, TX 77032.

Dated: October 22, 2004.
Dennis Puccinelli,
Executive Secretary.

[FR Doc. 04-24550 Filed 11-2-04; 8:45 am]

BILLING CODE 3510-DS-P